DEPARTMENT OF THE INTERIOR

Bureau of Land Management

[OR 120 5882 CD99; 3-0195]

Notice of Public Meeting, Coos Bay Resource Advisory Committee Meeting

AGENCY: Bureau of Land Management, Interior.

ACTION: Notice of Bureau of Land Management (BLM) Coos Bay District Resource Advisory Committee (RAC) Meeting as identified in Section 205(f)(2) of the Secure Rural Schools and Community Self-Determination Act of 2000, Public Law 106-393 (the Act).

SUMMARY: The BLM Coos Bay District RAC will be meeting on August 15, 2003 from 9 a.m. until 4 p.m. at the BLM Coos Bay District Office. The Coos Bay District Office is located at 1300 Airport Lane in North Bend, Oregon. The purpose of this meeting will be for the RAC to review and recommend project proposals for funding.

FOR FURTHER INFORMATION CONTACT: Sue Richardson, District Manager, at (541) 756-0100 or Glenn Harkleroad, District Restoration Coordinator, at (541) 751-4361 or glenn_harkleroad@or.blm.gov. The mailing address for the BLM Coos Bay District Office is 1300 Airport Lane, North Bend, Oregon 97459.

SUPPLEMENTARY INFORMATION: Additional information about the Coos Bay RAC agenda can be found at http://www.or.blm.gov/coosbay. A meeting agenda will be posted at this site as the meeting date nears.

Sue E. Richardson,
Coos Bay District Manager.

[FR Doc. 03-18335 Filed 7-17-03; 8:45 am]

BILLING CODE 4310-33-P